NATIONAL CREDIT UNION ADMINISTRATION

12 CFR Parts 702, 741 and 791

RIN 3133-AE07

Notice of Extension of Public Comment Period: Prompt Corrective Action, Requirements for Insurance, and Promulgation of NCUA Rules and Regulations

AGENCY: National Credit Union Administration (NCUA).

ACTION: Notice of extension of public comment period.

SUMMARY: The NCUA Board (Board) has extended the public comment period for its proposed rule titled Prompt Corrective Action, Requirements for Insurance, and Promulgation of NCUA Rules and Regulations, 77 FR 59139 (September 26, 2012), to November 26, 2012. The proposed rule addresses asset thresholds affecting regulatory relief for small credit unions.

DATES: Send your comments to reach us on or before November 26, 2012.

FOR FURTHER INFORMATION CONTACT: Kevin Tuininga, Trial Attorney, Office of General Counsel, National Credit Union Administration, 1775 Duke Street, Alexandria, Virginia 22314-3428 or telephone: (703) 518-6543.

SUPPLEMENTARY INFORMATION: The end of the comment period for the proposed rule was previously October 26, 2012. The Board has extended the comment period to November 26, 2012.

By the National Credit Union Administration Board on October 19, 2012.
Mary F. Rupp,
Secretary of the Board.

[FR Doc. 2012-26313 Filed 10-24-12; 8:45 am]

BILLING CODE 7535-01-P